FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012293-005.

Title: Maersk/MSC Vessel Sharing Agreement.

Parties: Maersk Line A/S and MSC Mediterranean Shipping Company S.A.

Filing Party: Wayne Rohde, Esq.; Cozen O'Connor; 1627 I Street NW., Suite 1100; Washington, DC 20006.

Synopsis: The amendment would revise Article 8.1 to adjust the notice period required to remove Israel from the geographic scope of the agreement.

Agreement No.: 012357.

Title: CMA CGM/HLAG U.S.-West Med Slot Sale Arrangement.

Parties: CMA CGM S.A. and Hapag-Lloyd AG.

Filing Party: Wayne R. Rohde, Esq.; Cozen O'Connor; 1627 I Street NW., Suite 1100; Washington, DC 20036.

Synopsis: The agreement authorizes the parties to sell slots to one another in the trade between the U.S. Gulf Coast on the one hand, and Mexico, Jamaica, Italy, and Spain on the other hand.

Agreement No.: 012358.

Title: MOL/NMCC/WLS and ECL Space Charter Agreement.

Parties: Mitsui O.S.K. Lines, Ltd; Nissan Motor Car Carrier Co., Ltd.; World Logistics Service (U.S.A.), Inc.; and Eastern Car Liner, Ltd.

Filing Party: Eric. C. Jeffrey, Esq.; Nixon Peabody LLP; 799 9th Street NW., Suite 500; Washington, DC 20001.

Synopsis: The agreement would authorize the parties to charter space to/from one another for the carriage of vehicles or other Ro/Ro cargo in the trade between the U.S. and all foreign countries.

By Order of the Federal Maritime Commission.
Dated: August 27, 2015.
Karen V. Gregory,
Secretary.

[FR Doc. 2015-21616 Filed 8-31-15; 8:45 am]

BILLING CODE 6731-AA-P